DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the division of Trade Adjustment Assistance, Employment and Training Administration, has instituted investigations pursuant to Section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance at the address shown below, not later than April 1, 2002.

Interested persons are invited to submit written comments regarding the subject matter of the investigations to the Director, Division of Trade Adjustment Assistance at the address shown below, not later than April 1, 2002.

The petitions filed in this case are available for inspection at the Office of the Director, Division of Trade Adjustment Assistance Employment and Training Administration, U.S. Department of Labor, Room C-5311, 200 Constitution Avenue, NW., Washington, DC 20210.

Signed at Washington, DC this 4th day of February, 2002.
Edward A. Tomchick,
Director, Division of Trade Adjustment Assistance.

Appendix
[Petitions Instituted on 02/04/2002]
TA-W | Subject firm (petitioners) | Location | Date of petition | Product(s)
40,706 | Valley City Steel (Wkrs) | Valley City, OH | 01/24/2002 | Pickling and Slitting Hot Rolled Steel.
40,707 | AG Simpson Automotive (UAW) | Sterling Height, MI | 01/23/2002 | Automotive Bumpers.
40,708 | Cannon County Knitting (Wkrs) | Smithville, TN | 01/07/2002 | Knit Apparel.
40,709 | Agilent Technologies (Wkrs) | Santa Clara, CA | 01/25/2002 | Cad Library Parts.
40,710 | Alpha Carb Enterprises (Wkrs) | Leechburg, PA | 01/11/2002 | Steel and Tungsten Carbide.
40,711 | Carolina Glove Co (Comp) | Conover, NC | 01/09/2002 | Work Gloves.
40,712 | Xerox Corp. (Wkrs) | Webster, NY | 01/08/2002 | Copiers—Digital.
40,713 | SDS Lumber Co. (Comp) | Bingen, WA | 01/09/2002 | Plywood.
40,714 | Ferraz Shawmut, Inc. (Wkrs) | Newburyport, MA | 01/21/2002 | Semi-Conductor Fuses.
40,715 | Stewart and Stevenson (Comp) | Albuquerque, NM | 01/14/2002 | Provide Diesel Engine Services.
40,716 | Hathaway/Waterville Shirt (UNITE) | Waterville, ME | 01/02/2002 | Shirts.
40,717 | DyStar LP (Comp) | Coventry, RI | 01/09/2002 | Specialty Chemicals.
40,718 | Bilco Manufacturing Corp (Comp) | Macon, GA | 01/07/2002 | Wooden Shell Rolls (Wooden Cores).
40,719 | Associated Spring (Wkrs) | Dallas, TX | 01/22/2002 | Tractor Power Bake and Springs.
40,720 | Rohm Device USA, Inc. (Comp) | Sunnyvale, CA | 01/14/2002 | Semiconductors.
40,721 | Engelhard Corp (Comp) | McIntyre, GA | 01/18/2002 | Paper Coating and Filling—Kaolin.
40,722 | Willow Creek Apparel (Wkrs) | Jonesville, NC | 01/07/2002 | Loungewear Apparel.
40,723 | FC Meyer Packaging (Wkrs) | St. Louis, MO | 12/11/2001 | Shoe Cartons.
40,724 | LTV Steel, Inc. (Wkrs) | Independence, OH | 12/14/2001 | Steel.
40,725 | TI Group Automotive (Wkrs) | Coldwater, MI | 12/07/2001 | Machine Tooling.
40,726 | Liberty Manufacturing (Wkrs) | Liberty, SC | 12/18/2001 | Denim Fabric.
40,727 | Wells Lamont (Wkrs) | Eupora, MS | 12/21/2001 | Work Gloves.
40,728 | Mikan Group, Inc. (UNITE) | Long Island Cty, NY | 12/05/2001 | Sportswear—Pants, Skirts.
40,729 | Liz Claiborne, Inc. (UNITE) | Mt. Pocono, PA | 12/14/2001 | Men's and Ladies' Clothing.
40,730 | Mears Tool and Die, Inc (Comp) | Cochranton, PA | 12/14/2001 | Bag Racks for Retail Stores.
40,731 | Fulflex of Virginia (Comp) | Stuart, VA | 12/10/2001 | Rubber Tapes and Threads.
40,732 | LM Services (Wkrs) | Cumberland, MD | 12/04/2001 | Distribute Sportswear.
40,733 | Blauer Manufacturing Co (Comp) | Chatom, AL | 12/18/2001 | Outerwear and Rainwear.
40,734 | Modular Mining Systems (Comp) | Tucson, AZ | 12/10/2001 | Hardware and Software.
40,735 | VF Jeanswear Limited (Comp) | Jackson, TN | 11/27/2001 | Ladies' and Men's Jeans.
40,735A | VF Jeanswear Limited (Comp) | Prague, OK | 11/27/2001 | Ladies' and Men's Jeans.
40,735B | VF Jeanswear Limited (Comp) | Seminole, OK | 11/27/2001 | Ladies' and Men's Jeans.
40,736 | VF Jeanswear Limited (Comp) | Shenandoah, VA | 11/28/2001 | Ladies' and Men's Jeans.
40,736A | VF Jeanswear Limited (Comp) | Madison, VA | 11/28/2001 | Ladies' and Men's Jeans.
40,736B | VF Jeanswear Limited (Comp) | Luray, VA | 11/28/2001 | Ladies' and Men's Jeans.
40,737 | VF Jeanswear Limited (Wkrs) | El Paso, TX | 01/16/2001 | Jeans and Pants.
40,737A | VF Jeanswear Limited (Wkrs) | Fabens, TX | 01/16/2001 | Jeans and Pants.
40,738 | DW Manufacturing (Comp) | White City, OR | 12/18/2001 | Service Provider—Electronic related.
40,739 | Molycorp, Inc. (Comp) | Questa, NM | 12/06/2001 | Molybdenum.
40,740 | Corning, Inc. (Comp) | Greenville, OH | 12/27/2001 | Corning Products.
40,741 | Leavitt Communications (Wkrs) | Lincolnshire, IL | 12/06/2001 | Pagers.
40,742 | Huhtamaki Foodservice (Comp) | Waterville, ME | 12/11/2001 | Plates, Bowls, Platters.
40,743 | Hewlett Packard (Wkrs) | Colorado Spring, CO | 09/26/2001 | Computers.
40,744 | Wabash Aluminum Alloys (Comp) | Richmond, VA | 12/13/2001 | Deox.
40,745 | New Holland North America (Wkrs) | Belleville, PA | 12/13/2001 | Loaders and Various Hay Tools.
40,746 | Saint-Gobain Crystals (Comp) | Washougal, WA | 12/07/2001 | Crystals.
40,747 | Bose Corp. (Wkrs) | Hillsdale, MI | 12/13/2001 | Automotive Loudspeakers.
40,748 | Felix Schoeller Technical (PACE) | Pulaski, NY | 12/18/2001 | Photo and Speciality Paper.
40,749 | Trinity Industries (Wkrs) | Longview, TX | 12/18/2001 | Railcars.
40,750 | Mid America Building (Comp) | Hurley, NM | 12/21/2001 | Janitorial Services.
40,751 | Meridian Automotive (Wkrs) | Portland, OR | 12/20/2001 | Truck Hoods.
40,752 | Cooper Standard Auto (Wkrs) | Fairview, MI | 11/27/2001 | Automotive Fluid Systems.
40,753 | Tresco Tool, Inc (Comp) | Guys Mills, PA | 11/06/2001 | Plastic Injection Molds, Dies.
40,754 | Molycorp, Inc. (USWA) | Washington, PA | 01/21/2001 | Ferromolybdenum.
40,755 | Crompton Corp., Uniroyal (USWA) | Naugatuck, CT | 11/02/2001 | Chemicals.
40,756 | MRC Bearings, SKF USA (UAW) | Jamestown, NY | 11/27/2001 | Ball and Roller Bearings.
40,757 | Sony Electronics (Wkrs) | Mt. Pleasant, PA | 10/10/2001 | TV's, Tubes and Components.
40,758 | R and M Dress/Old Friends (Wkrs) | Lebanon, PA | 10/26/2001 | Ladies' Sportswear.
40,759 | Jordana, Inc. (Comp) | Medley, FL | 10/29/2001 | Ladies' Apparel.
40,760 | Sew Special, Inc. (Comp) | Randleman, NC | 10/30/2001 | Ladies' Apparel.
40,761 | Lou Levy and Sons (UNITE) | New York, NY | 01/15/2002 | Ladies' Coats.
40,762 | Presto Products Mfg (Wkrs) | Alamo Gordo, NM | 01/14/2002 | Small Electric Appliances.
40,763 | R.C.M. Manufacturing Co (Comp) | Fall River, MA | 10/15/2001 | Ladies' Coats.
40,764 | Fit Rite Headwear, Inc. (Comp) | Wilkes, Barre, PA | 10/30/2001 | Sew Safety Products.
40,765 | Becton Dickinson (Comp) | Hancock, NY | 01/09/2001 | Disposable Surgical Blades.
40,766 | Harper-Wyman Co (Comp) | Princeton, IL | 12/05/2001 | Top Burners and Oven Burners.
40,767 | Uniroyal Goodrich Tire (USWA) | Tuscaloosa, AL | 11/30/2001 | Radial Tires.
40,768 | Borg Warner Automotive (Wkrs) | Coldwater, MI | 01/03/2002 | Damper Assemblies.
40,769 | JBI LP (Comp) | Osseo, WI | 12/17/2001 | Paint Line Equipment.
40,770 | Tree Machine Tool, Inc (IAMAW) | Franklin, WI | 12/01/2001 | Marketing of Machine Tools.
40,771 | 3M Company (Comp) | Bristol, PA | 12/27/2001 | Sealing, Packaging Tape.

[FR Doc. 02-6664 Filed 3-19-02; 8:45 am]

BILLING CODE 4510-30-M